DEPARTMENT OF TRANSPORTATION

Federal Aviation Administration

[Docket No. FAA-2022-1356]

Recommended Gulfstream GV-Series Standardized Curricula for Operators Delivered by Training Centers

AGENCY: Federal Aviation Administration (FAA), Department of Transportation (DOT).

ACTION: Notice of availability; request for comments.

SUMMARY: This notice announces the availability of the Aviation Rulemaking Advisory Committee's (ARAC) recommended Gulfstream GV-series aircraft standardized curricula for certain air carriers and operators. The FAA invites public comment on the recommended curricula.

DATES: The FAA must receive comments on these documents by November 9, 2022.

ADDRESSES: You may send comments identified by docket number FAA-2022-1356 using any of the following methods:

• Federal eRulemaking Portal: Go to https://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at https://www.dot.gov/privacy.

Docket: Background documents or comments received may be read at https://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Joshua Tarkington, Flight Standards, Air Transportation Division, Training and Simulation Group (AFS-280), Joshua.Tarkington@faa.gov, (860) 708-3839. Federal Aviation Administration, 800 Independence Avenue SW, Washington, DC 20591.

SUPPLEMENTARY INFORMATION: The Standardized Curriculum concept is a voluntary approach to training for title 14 Code of Federal Regulations (14 CFR) part 135 training when provided by part 142 training centers. It provides an efficient means for approving training curricula offered by part 142 training centers while increasing the consistency of training, testing, and checking delivered to part 135 operators with an emphasis on standardization. The Standardized Curriculum concept supports the overarching goals to enhance training and checking and promote safer operational practices and is consistent with applicable regulations. Additional information about standardized curricula is available in Advisory Circular (AC) 142-1, Standardized Curricula Delivered by Part 142 Training Centers.

Discussion

The FAA tasked the Aviation Rulemaking Advisory Committee (ARAC) in March 2020 with providing advice and recommendations on the most effective ways to achieve standardization (where appropriate) and significant administrative efficiency in check pilot qualification, flight instructor qualification, and part 135 air carrier training curricula delivered by part 142 training centers, known as the Standardized Curriculum concept. Under ARAC, the Standardized Curriculum concept was tasked to the Training Standardization Working Group (TSWG). TSWG membership includes representatives from training centers, aircraft manufacturers, operators, and aviation industry organizations. The TSWG was tasked to develop and recommend part 135 standardized curricula for each aircraft or series of aircraft, which includes the maneuvers, procedures, and functions to be performed during training and checking.

The TSWG developed a GV-series standardized curricula, which includes recommended GV maneuvers, procedures, and functions to meet the regulatory requirements in part 135. The TSWG submitted the recommended curricula to the ARAC for consideration. The ARAC subsequently approved the curricula and submitted it to FAA for review.

Comments Invited

The FAA invites public comments on the TSWG proposed “Standardized Curricula Part 135 Delivered by Part 142 Training Centers, Gulfstream GV-Series.” This document can be found at https://www.faa.gov/regulations_policies/rulemaking/committees/documents/media/20220912%20ARAC%20Recommendation%20Report%20-%20TSWG%20GV%20-%20vSent.pdf and supporting documentation can be found at https://www.faa.gov/regulations_policies/rulemaking/committees/documents/media/TSWGG-VSupportingDocumentation.pdf.

The FAA will consider the public comments submitted during this comment period in finalizing the curricula.

Issued in Washington, DC, on October 13, 2022.
David Boulter,
Acting Associate Administrator, Aviation Safety.

[FR Doc. 2022-22583 Filed 10-18-22; 11:15 am]

BILLING CODE 4910-13-P